DEPARTMENT OF ENERGY

Federal Energy Regulatory Commission

[Docket No. MG00-6-003]

Dominion Resources, Inc. and Consolidated Natural Gas Company; Notice of Filing

August 17, 2000.

Take notice that on August 1, 2000, Dominion Resources, Inc. and Consolidated Natural Gas Company (CNG) submitted a compliance filing as required by the May 17, 2000 Order on Compliance Filing, 91 FERC 61,140 (2000), and the May 17, 2000 Standards of Conduct Order, 91 FERC ¶ 61,141 (2000).

CNG states that it has served copies of this filing to all parties on the service list.

Any person desiring to be heard or to protest said filing should file a motion to intervene or protest with the Federal Energy Regulatory Commission, 888 First Street, NE, Washington, D.C. 20426, in accordance with Rules 211 or 214 of the Commission's Rules of Practice and Procedure (18 CFR 385.211 or 385.214). All such motions to intervene or protest should be filed on or before September 1, 2000. Protests will be considered by the Commission in determining the appropriate action to be taken but will not serve to make protestants parties to the proceeding. Any person wishing to become a party must file a motion to intervene. Copies of this filing may be viewed on the web at http://www.ferc.fed.ud/online/rims.htm (call 202-208-2222 for assistance).

David P. Boergers,
Secretary.

[FR Doc. 00-21443 Filed 8-22-00; 8:45 am]

BILLING CODE 6717-01-M